DEPARTMENT OF ENERGY

Federal Energy Regulatory Commission

Notice of Transfer of License and Solicitation of Comments, Motions To Intervene, and Protests

May 20, 2002.

Take notice that the following hydroelectric application has been filed with the Commission and is available for public inspection:

a. Application Type: Transfer of License.

b. Project No.: 3342-013.

c. Date Filed: May 8, 2002.

d. Applicants: New Hampshire Hydro Associates (Transferor) and Briar Hydro Associates (Transferee).

e. Name of Project: Penacook Lower Falls Project.

f. Location: On the Contoocook River, in Merrimack County, New Hampshire. The project would not utilize federal or tribal lands.

g. Filed Pursuant to: Federal Power Act, 16 U.S.C. 791(a)-825(r).

h. Applicants Contacts: Elizabeth W. Whittle, Esq., Nixon Peabody LLP, 401 9th Street, NW., Suite 900, Washington, DC 20004; Richard A. Norman, New Hampshire Hydro Associates, c/o Essex Hydro Associates, L.L.C., 55 Union Street, Fourth Floor, Boston, MA 02108

i. FERC Contact: Regina Saizan, (202) 219-2673.

j. Deadline for filing comments or motions: June 11, 2002.

All documents (original and eight copies) should be filed with: Magalie R. Salas, Secretary, Federal Energy Regulatory Commission, 888 First Street, NE., Washington, DC 20426. Comments, protests, and interventions may be filed electronically via the Internet in lieu of paper. See, 18 CFR 385.2008(a)(1)(iii) and the instructions on the Commission's Web site under the “e-Filing” link.

Please include the project number (P-3342-013) on any comments, protests, or motions filed.

The Commission's Rules of Practice and Procedure require all interveners filing a document with the Commission to serve a copy of that document on each person in the official service list for the project. Further, if an intervener files comments or documents with the Commission relating to the merits of an issue that may affect the responsibilities of a particular resource agency, they must also serve a copy of the documents on that resource agency.

k. Description of Transfer: The transferee owns two other operating projects located immediately upstream of the Penacook Lower Falls Project. The transfer is being undertaken to restructure the current ownership and to consolidate and simplify the ownership and operation of the three projects.

l. Copies of this filing are on file with the Commission and are available for public inspection. This filing may be viewed on the Commission's Web site at http://www.ferc.gov using the “RIMS” link, select “Docket #” and follow the instructions ((202) 208-2222 for assistance). A copy is also available for inspection and reproduction at the address in h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 02-13090 Filed 5-23-02; 8:45 am]

BILLING CODE 6717-01-P